DEPARTMENT OF COMMERCE

National Institute of Standards and Technology

Visiting Committee on Advanced Technology

AGENCY: National Institute of Standards and Technology, Department of Commerce.

ACTION: Notice of public meeting.

SUMMARY: Pursuant to the Federal Advisory Committee Act, 5 U.S.C. app. 2, notice is hereby given that the Visiting Committee on Advanced Technology (VCAT), National Institute of Standards and Technology (NIST), will meet Tuesday, June 9, 2009, from 8:30 a.m. to 5 p.m. and Wednesday, June 10, 2009, from 8:30 a.m. to 11:45 a.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The theme for this meeting is “NIST's Laboratory Programs and their Importance to Documentary Standards Development and Implementation” with two case studies in Smart Grid and Health Care Information Technology (IT). The first day's agenda will include an update on NIST; overviews of the NIST role in documentary standards, Smart Grid, and Health Care IT; presentations on the importance of NIST laboratory research programs to support standards for Smart Grid and Health Care IT; external perspectives from two guest speakers on the issues and challenges associated with these two areas; and a related laboratory tour and software demonstration. On the second day, the agenda calls for a discussion with the Committee on three key questions related to the theme of the meeting followed by the VCAT's feedback on summary findings for the 2009 Annual Report. The agenda may change to accommodate Committee business. The final agenda will be posted on the NIST Web site at http://www.nist.gov/director/vcat/agenda.htm.

DATES: The meeting will convene on June 9, 2009 at 8:30 a.m. and will adjourn on June 10, 2009, at 11:45 a.m.

ADDRESSES: The meeting will be held in the Employees Lounge, Administration Building, at NIST, Gaithersburg, Maryland. All visitors to the NIST site will have to pre-register to be admitted. Please submit your name, time of arrival, e-mail address and phone number to Denise Herbert no later than Friday, June 5, 2009, and she will provide you with instructions for admittance. Ms. Herbert's e-mail address is denise.herbert@nist.gov and her phone number is (301) 975-5607.

FOR FURTHER INFORMATION CONTACT: Denise Herbert, Visiting Committee on Advanced Technology, National Institute of Standards and Technology, Gaithersburg, Maryland 20899-1000, telephone number (301) 975-5607.

Dated: May 12, 2009.
Patrick Gallagher,
Deputy Director.

[FR Doc. E9-11399 Filed 5-14-09; 8:45 am]

BILLING CODE 3510-13-P